DEPARTMENT OF JUSTICE

Certification of the Attorney General; Williamson County, TX

In accordance with Section 8 of the Voting Rights Act, 42 U.S.C. 1973f, I hereby certify that in my judgment the appointment of Federal observers is necessary to enforce the guarantees of the Fourteenth and Fifteenth Amendments of the Constitution of the United States in Williamson County, Texas. This county is included within the scope of the determinations of the Attorney General and the Director of the Census made under Section 4(b) of the Voting Rights Act, 42 U.S.C. 1973b(b), and published in the Federal Register on September 23, 1975 (40 FR 43,746).

Dated: February 23, 2010.
Eric H. Holder Jr.,
Attorney General of the United States.

[FR Doc. 2010-3998 Filed 2-25-10; 8:45 am]

BILLING CODE 4410-13-P